DEPARTMENT OF JUSTICE

Notice of Lodging Proposed Consent Decree

In accordance with Departmental Policy, 28 CFR 50.7, notice is hereby given that a proposed Consent Decree in United States v. Thomas J. Byrd, Jr., Civil Action No. 19-cv-18601, was lodged with the United States District Court for the District of New Jersey on Wednesday, October 2, 2019.

This proposed Consent Decree concerns a complaint filed by the United States against Thomas J. Byrd, Jr., pursuant to Section 301 of the Clean Water Act, 33 U.S.C. 1311, and Section 10 of the Rivers and Harbors Act, 33 U.S.C. 403, to obtain injunctive relief from and impose civil penalties against the Defendant for conducting earthmoving activities that resulted in the unauthorized discharge of dredged or fill material into waters of the United States. The proposed Consent Decree resolves these allegations against the Defendant by requiring the Defendant to conduct specific restoration activities, under the supervision of the United States Army Corps of Engineers.

The Department of Justice will accept written comments relating to this proposed Consent Decree for thirty (30) days from the date of publication of this Notice. Please address comments to Allan Urgent, Senior Litigation Counsel, United States Attorney's Office, District of New Jersey, 970 Broad Street, Suite 700, Newark, NJ 07102 and refer to United States v. Thomas J. Byrd, Jr., 19-cv-18601 (DJ #90-5-1-1-20812).

The proposed Consent Decree may be examined at the Clerk's Office at the United States District Court for the District of New Jersey, 50 Walnut Street, Newark, NJ 07102. For other locational information, please visit https://www.njd.uscourts.gov/. In addition, the proposed Consent Decree may be examined electronically at http://www.justice.gov/enrd/consent-decrees.

Cherie L. Rogers,
Assistant Section Chief, Environmental Defense Section, Environment and Natural Resources Division.

[FR Doc. 2019-22054 Filed 10-8-19; 8:45 am]

BILLING CODE 4410-15-P